DEPARTMENT OF COMMERCE

Census Bureau

Agency Information Collection Activities; Submission to the Office of Management and Budget (OMB) for Review and Approval; Comment Request; Longitudinal Employer-Household Dynamics (LEHD)

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the Longitudinal Employer-Household Dynamics data collection, prior to the submission of the information collection request to OMB for approval.

DATES: To ensure consideration, comments regarding this proposed information collection must be received on or before January 16, 2024.

ADDRESSES: Interested persons are invited to submit written comments by email to adrm.pra@census.gov. Please reference Longitudinal Employer-Household Dynamics (LEHD) in the subject line of your comments. You may also submit comments, identified by Docket Number USBC-2023-0012, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Keith Bailey, Assistant Center Chief, 301-763-2923, and keith.a.bailey@census.gov.

SUPPLEMENTARY INFORMATION:

I. Abstract

A 21st century statistical system must provide information about the dynamic economy quickly, using data assets efficiently while minimizing the burden of collecting and providing data and fully preserving confidentiality. The Census Bureau's Longitudinal Employer-Household Dynamics (LEHD) data infrastructure has demonstrated the power and usefulness of linking multiple business and employee data sets with state-of-the-art confidentiality protections to build a longitudinal national frame of jobs.

LEHD supports the Department of Commerce plan to improve American competitiveness and measures of innovation. It provides Federal, State, and local policymakers and planners, businesses, private sector decision makers, and Congress with comprehensive and timely national, State, and local information on the dynamic nature of employers and employees.

LEHD significantly reduces the overall effort for the generation of its quarterly data product by:

• Leveraging existing Federal administrative and State data

• Avoiding costs required to expand existing surveys to collect the information directly

• Reducing respondent burden by limiting the number of required resources to just the owners of the required data

LEHD is a result of the Local Employment Dynamics (LED) Partnership. The LED Partnership is a partnership between the US Census Bureau and the Labor Market Information (LMI) agencies from 50 States, the District of Columbia, and the territories of Puerto Rico, Guam and the U.S. Virgin Islands. This partnership supports the development, promotion, and distribution of the following public-use data products:

• Quarterly Workforce Indicators (QWI)—LEHD's flagship data product is the Quarterly Workforce Indicators (QWI) which provides 32 statistical indicators on employment, job creation and destruction, accessions (hires and recalls), and separations (e.g., exits and layoffs). These statistics are released for the following by-groups for all quarters for which data are available for each partner State:

○ County, metropolitan, and workforce development area

○ Age, sex, race, and ethnicity categories

○ Business characteristics (i.e., detailed industry ownership type, firm age, firm size)

• LEHD Origin Destination Employment Statistics (LODES)—LODES data provide detailed spatial distributions of workers' employment and residential locations and the relation between the two at the Census Block level. LODES also provides characteristic detail on age, earnings, industry distributions, and other worker/business characteristics.

• Job-to-Job Flows (J2J)—Job-to-Job Flows (J2J) is a set of statistics on job mobility in the United States constructed by the LEHD program. J2J include statistics on: (1) the job-to-job transition rate, (2) hires and separations to and from employment, (3) earnings changes due to job change, and (4) characteristics of origin and destination jobs for job-to-job transitions. These statistics are available at the national, State, and metropolitan area levels and by worker and firm characteristics.

• Post-Secondary Employment Outcomes (PSEO)—Post-Secondary Employment Outcomes (PSEO) is an experimental set of statistics on the earnings and employment outcomes of graduates of select post-secondary institutions in the United States, and is constructed using data from LEHD. Earnings Outcomes reports earnings by institution, degree field, degree level and graduation cohort for 1, 5 and 10 years after graduation. Employment Flows tabulations provide the destination industry and geography of employment for graduates of an institution by degree level, degree field, and graduation cohort, for one, five, and 10 years after graduation. A limited number of institutions are available as part of the pilot release, but future updates will include additional post-secondary institutions.

These data products highlight state and local labor market dynamics that cannot be learned from other statistical sources and are therefore used in many different arenas. For example, the QWI can be used as local-labor-market controls in regression analysis; to identify long-term trends; to provide local context in performance evaluations; and for a host of other applications.

II. Method of Collection

The collection of data occurs in accordance with the rules established by interagency agreements with the participating State partners or data sharing agreements that have been established within the Census Bureau. For State partners, their data is submitted directly to the Census secure servers where Personally Identifiable Information (PII) goes through a process to replace it with Protected Identification Keys (PIK). This PVS (Person Identification Validation System) process also applies to all other administrative data that are used in the LEHD infrastructure. For all other required administration data, they are transferred or referenced by the LEHD production system. Data collection and processing also includes activities such as validation of data quality.

LEHD's data products are not generated by a traditional survey. Rather, all input data required is collected electronically as follows:

• State Unemployment Insurance (UI) and Quarterly Census of Employment and Wages (QCEW) are provided via encrypted File Transfer Protocol (FTP) through which each State LMI agency sends these data directly to the Census Bureau. This transfer of data is governed by Memorandum of Understandings (MOUs) with each State partner.

• Federal and Census Administrative data are acquired from other directorates or divisions within the Census Bureau with which an internal agreement has been established for the use of the data.

• Public Use data sets are acquired from publicly available websites or public File Transfer Protocol (FTP) servers.

Data that is used in LEHD infrastructure are defined in the following table.

Table III-1—Input Data Sets for the LEHD Program
File | Source | Delivery schedule | Number of respondents
American Housing Survey (AHS) | Census Bureau | Yearly | 1
Business Dynamics Statistics (BDS) | Census Bureau | Annual | 1
Quarterly Census of Employment and Wages (QCEW) | Bureau of Labor Statistics | Quarterly | 1
Current Population Survey (CPS) | Census Bureau | Yearly | 1
Federal Workers | Office of Personnel Management | Quarterly | 1
Geographic Reference File | Census Bureau | Yearly | 1
Master Address File Extract | Census Bureau | Yearly | 1
New Business Register | Census Bureau | Yearly | 1
Geographic Database | Pitney Bowes Corporation | Quarterly | 1
Master Address File Auxiliary Reference File | Census Bureau | Yearly | 1
Residence Candidate File | Census Bureau | Yearly | 1
Survey of Income and Program Participation | Census Bureau | Yearly | 1
Topologically Integrated Geographic Encoding and Referencing | Census Bureau | Yearly | 1
W2 Records | Internal Revenue Service | Yearly | 1
Unemployment Insurance Wage File | State Partners | Quarterly | 54
Quarterly Census of Employment and Wages (QCEW) | State Partners | Quarterly | 54
WDB Definitions files | State Partners | Acquired as needed | 54

III. Data

OMB Control Number: 0607-1001.

Form Number(s): Not applicable as survey forms are not required to collect this data.

Type of Review: Regular submission, Request for a Revision of a Currently Approved Collection.

Affected Public: Not-for-profit institutions; State, local, or Tribal government; Federal Government.

Estimated Number of Respondents: As defined in Table III-1 above.

Estimated Time per Response: No more than 8 hours required to identify and send/post required data sets.

Estimated Total Annual Burden Hours: 1728 hours.

Estimated Total Annual Cost to Public: $0. (This is not the cost of respondents' time, but the indirect costs respondents may incur for such things as purchases of specialized software or hardware needed to report, or expenditures for accounting or records maintenance services required specifically by the collection.)

Respondent's Obligation: Voluntary via a Memorandum of Understanding (MOU).

Legal Authority: The authority to develop LEHD is 13 U.S.C. 6. Of course, confidentiality is assured by 13 U.S.C. 9.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-25021 Filed 11-13-23; 8:45 am]

BILLING CODE 3510-07-P